DEPARTMENT OF COMMERCE

International Trade Administration

Notice of Scope Rulings

AGENCY: Import Administration, International Trade Administration, Department of Commerce.

EFFECTIVE DATE: July 1, 2010.

SUMMARY: The Department of Commerce (“Department”) hereby publishes a list of scope rulings completed between October 1, 2009, and December 31, 2009. In conjunction with this list, the Department is also publishing a list of requests for scope rulings and anticircumvention determinations pending as of December 31, 2009. We intend to publish future lists after the close of the next calendar quarter.

FOR FURTHER INFORMATION CONTACT: Julia Hancock, AD/CVD Operations, China/NME Group, Import Administration, International Trade Administration, U.S. Department of Commerce, 14th Street and Constitution Avenue, N.W., Washington, DC 20230; telephone: 202-482-1394.

SUPPLEMENTARY INFORMATION:

Background

The Department's regulations provide that the Secretary will publish in the Federal Register a list of scope rulings on a quarterly basis. See 19 C.F.R. 351.225(o). Our most recent notification of scope rulings was published on March 24, 2010. See Notice of Scope Rulings, 75 FR 14138 (March 24, 2010). This current notice covers all scope rulings and anticircumvention determinations completed by Import Administration between October 1, 2009, and December 31, 2009, inclusive, and it also lists any scope or anticircumvention inquiries pending as of December 31, 2009. As described below, subsequent lists will follow after the close of each calendar quarter.

Scope Rulings Completed Between October 1, 2009, and December 31, 2009:

People's Republic of China

A-570-814: Certain Carbon Steel Butt-Weld Pipe Fittings from the People's Republic of China

Requestor: King Architectural Metals (“King”); King's pipe fittings for structural use in handrails and fencing are within the scope of the antidumping duty order; October 20, 2009.

A-570-868: Folding Metal Tables and Chairs from the People's Republic of China

Requestor: Lifetime Products Inc Lifetime's fold-in-half adjustable height tables are outside the scope of the antidumping duty order; October 27, 2009.

A-570-891: Hand Trucks and Certain Parts Thereof from the People's Republic of China

Requestor: Simon, Evers & Co., GmbH; the Relius Fold-Away Truck, Relius Tray-Shelf Utility Cart, Economical Steel Cart, Solid Platform Dolly and Flush Platform Dolly are all outside the scope of the antidumping duty order; December 3, 2009.

A-570-901: Lined Paper Products from the People's Republic of China

Requestor: Lomographic Corporation (“Lomographic”); Lomographic's London Lomo Notebook and Lomo Notebook are outside the scope of the antidumping duty order; December 23, 2009.

A-570-932: Certain Steel Threaded Rod from the People's Republic of China

Requestor: Mid-State Bolt & Nut Company, Inc. (“Mid-State”); Mid-State's concrete wedge anchors are outside the scope of the antidumping duty order; October 14, 2009.

Anticircumvention Determinations Completed Between October 1, 2009, and December 31, 2009:

None.

Scope Inquiries Terminated Between October 1, 2009, and December 31, 2009:

None.

Anticircumvention Inquiries Terminated Between October 1, 2009, and December 31, 2009:

None.

Scope Inquiries Pending as of December 31, 2009:

Germany

A-428-801: Ball Bearings and Parts from Germany

Requestor: The Schaeffler Group; whether certain ball roller bearings are within the scope of the antidumping duty order, requested April 28, 2009.

People's Republic of China

A-570-502: Iron Construction Castings from the People's Republic of China

Requestor: National Diversified Sales; whether its grates and frames are within the scope of the antidumping duty order; requested December 22, 2009.

A-570-504: Petroleum Wax Candles from the People's Republic of China

Requestor: Trade Associates Group, Ltd.; whether its candles (multiple designs) are within the scope of the antidumping duty order; requested June 11, 2009.

A-570-504: Petroleum Wax Candles from the People's Republic of China

Requestor: Sourcing International, LLC; whether its flower candles are within scope of the antidumping duty order; requested June 24, 2009.

A-570-504: Petroleum Wax Candles from the People's Republic of China

Requestor: Sourcing International; whether its candles (multiple designs) are within scope of the antidumping duty order; requested July 28, 2009.

A-570-504: Petroleum Wax Candles from the People's Republic of China

Requestor: Sourcing International; whether its floral bouquet candles are within scope of the antidumping duty order; requested August 25, 2009.

A-570-504: Petroleum Wax Candles from the People's Republic of China

Requestor: Candym Enterprises Ltd.; whether its vegetable candles are within scope of the antidumping duty order; requested November 9, 2009.

A-570-804: Sparklers from the People's Republic of China

Requestor: American Promotional Events, Inc.; whether its Sparkling Tree is within the scope of the antidumping duty order; requested September 2, 2009.

A-570-806: Silicon Metal from the People's Republic of China

Requestor: Globe Metallurgical Inc.; whether certain silicon metal exported by Ferro-Alliages et Mineraux to the United States from Canada is within the scope of the antidumping duty order; requested October 1, 2008.

A-570-864: Pure Magnesium in Granular Form from the People's Republic of China

Requestor: ESM Group Inc.; whether atomized ingots are within the scope of the antidumping duty order; initiated April 18, 2007; preliminary ruling issued August 27, 2008.

A-570-891: Hand Trucks from the People's Republic of China

Requestor: Northern Tool & Equipment Co.; whether a high-axle torch cart (item #164771) is within the scope of the antidumping duty order; requested March 23, 2007.

A-570-891: Hand Trucks from the People's Republic of China

Requestor: E&B Giftware; whether its ML6275D luggage cart is within the scope of the antidumping duty order; requested December 24, 2009.

A-570-901: Lined Paper Products from the People's Republic of China

Requestor: Livescribe, Inc.; whether its patented dot patterned paper are within the scope of the antidumping duty order; requested July 14, 2009.

A-570-909: Steel Nails from the People's Republic of China

Requestor: Target Corporation; whether its tool kit is within the scope of the antidumping duty order; requested December 11, 2009.

A-570-909: Certain Steel Nails from the People's Republic of China

Requestor: National Nails Corporation; whether its the plastic cap steel nails is within the scope of the antidumping duty order; requested October 14, 2009.

A-570-922: Raw Flexible Magnets from the People's Republic of China

Requestor: It's Academic, Inc.; whether four of its seven packages of locker magnets are within the scope of the antidumping duty order, requested June 4, 2009.

A-570-924: Polyethylene Terephthalate (“PET”) Film from the People's Republic of China

Requestor: Coated Fabrics Company; whether Amorphous PET (“APET”), Glycol-modified PET (“PETG”), and coextruded APET and with PETG on its outer surfaces (“GAG Sheet”) are within the scope of the antidumping duty order; requested February 12, 2009.

A-570-932: Steel Threaded Rod from the People's Republic of China

Requestor: Elgin Fastener Group; whether its cold headed double threaded ended bolt is within the scope of the antidumping duty order; requested November 4, 2009.

Multiple Countries

A-570-922 and C-570-923: Raw Flexible Magnets from the People's Republic of China; A-583-842: Raw Flexible Magnets from Taiwan

Requestor: Direct Innovations; whether certain decorative retail magnets are within the scope of the antidumping and countervailing duty orders; requested March 20, 2009.

Anticircumvention Rulings Pending as of December 31, 2009:

None.

Interested parties are invited to comment on the completeness of this list of pending scope and anticircumvention inquiries. Any comments should be submitted to the Deputy Assistant Secretary for AD/CVD Operations, Import Administration, International Trade Administration, 14th Street and Constitution Avenue, N.W., APO/Dockets Unit, Room 1870, Washington, DC 20230.

This notice is published in accordance with 19 C.F.R. 351.225(o).

Dated: June 15, 2010.
John M. Andersen,
Acting Deputy Assistant Secretary for Antidumping and Countervailing Duty Operations.

[FR Doc. 2010-15931 Filed 6-30-10; 8:45 am]

BILLING CODE 3510-DS-S